ENVIRONMENTAL PROTECTION AGENCY

[EPA-HQ-OA-2011-0798; FRL-9475-6]

Gulf of Mexico Regional Ecosystem Restoration Strategy (Preliminary)

AGENCY: Environmental Protection Agency (EPA).

ACTION: Notice of Availability.

SUMMARY: This notice announces the availability of the Gulf of Mexico Regional Ecosystem Restoration Strategy (Preliminary) for public review and feedback. The document is available at http://www.regulations.gov in the docket identified by Docket ID No. EPA-HQ-OA-2011-0798. President Barack Obama established the Gulf Coast Ecosystem Restoration Task Force (Task Force) on October 5, 2010 through Executive Order 13554 for the purpose of coordinating the long-term conservation and restoration of America's Gulf Coast. The Task Force is an intergovernmental advisory body comprised of senior officials from 11 federal cabinet level agencies and the Executive Office of the President, and one representative from each of the five Gulf Coast states, Alabama, Florida, Louisiana, Mississippi, and Texas. The President charged the Task Force to work with state and federal agencies, tribes, communities, stakeholders and the public throughout the Gulf Coast to develop a Gulf of Mexico Ecosystem Restoration Strategy. Additionally, the Task Force was instructed to build upon existing research and ecosystem restoration plans, and to learn from those who are actively involved in ecosystem restoration.

Over the past year the Task Force has engaged with various stakeholders and the public as well as coordinated with other entities that share the Task Force's important goals. The Task Force held at least one public meeting in each of the five Gulf states, which included a public listening session to gather individual input from those most connected to the Gulf ecosystem. In addition to the listening sessions that took place during public meetings, the Task Force held multiple listening sessions throughout the Gulf in partnership with local government leadership, academics, and non-governmental organizations. The culmination of these efforts has led to the development of the Gulf of Mexico Regional Ecosystem Restoration Strategy (Preliminary), which is being released for public review and feedback.

DATES: Comments must be received on or before October 26, 2011.

ADDRESSES: Submit your comments, identified by Docket ID No. EPA-HQ-OA-2011-0798, by one of the following methods:

• http://www.regulations.gov: Follow the on-line instructions for submitting comments.

• E-mail: oei.docket@epa.gov.

• Fax: (202) 566-9744.

• Mail: U.S. Environmental Protection Agency, EPA Docket Center, Office of Environmental Information Docket, Mail Code 28221T, 1200 Pennsylvania Ave., NW., Washington, DC 20460.

• Hand Delivery: U.S. Environmental Protection Agency, EPA Docket Center, EPA West Building, Room 3334, 1301 Constitution Ave., NW., Washington, DC 20004. Such deliveries are only accepted during the Docket's normal hours of operation, and special arrangements should be made for deliveries of boxed information.

Instructions: Direct your comments to Docket ID No. EPA-HQ-OA-2011-0798. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be available to the public only at the EPA Docket Center. Publicly available docket materials are available either electronically in http://www.regulations.gov or in hard copy at the Office of Environmental Information Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Office of Environmental Information Docket is (202) 566-1752.

FOR FURTHER INFORMATION CONTACT: Carolyn Scully, Gulf Coast Ecosystem Restoration Task Force, Mail Code 1101R, Environmental Protection Agency, 1300 Pennsylvania Ave., NW., Washington, DC 20460; telephone number: (202) 566-1457; e-mail address: scully.carolyn@epa.gov.

SUPPLEMENTARY INFORMATION:

What should I consider as I prepare my feedback for the Gulf Coast Ecosystem Restoration Task Force?

Tips for Preparing Your Feedback. When preparing your feedback, you may find the following suggestions helpful:

• Explain why you agree or disagree; suggest alternatives and substitute language for your requested changes.

• Describe any assumptions and provide any technical information and/or data that you used.

• Provide specific examples to illustrate your concerns, and suggest alternatives.

• Explain your views as clearly as possible, avoiding the use of profanity or personal threats.

• Make sure to submit your comments by the comment period deadline identified under DATES.

Dated: September 26, 2011.
John H. Hankinson, Jr.,
Executive Director, Gulf Coast Ecosystem Restoration Task Force.
Dated: September 26, 2011.
John E. Reeder,
Deputy Chief of Staff to the Administrator, U.S. Environmental Protection Agency.

[FR Doc. 2011-25769 Filed 10-4-11; 8:45 am]

BILLING CODE 6560-50-P